DEPARTMENT OF LABOR

Employment and Training Administration

[TA-W-61,864; TA-W-61,864C]

Syroco, Inc., Baldwinsville, NY, Including an Employee Located in Houston, TX; Amended Certification Regarding Eligibility To Apply for Worker Adjustment Assistance and

Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 27, 2007, applicable to workers of Syroco, Inc., Baldwinsville, New York. The notice was published in the Federal Register on August 9, 2007 (72 FR 44865).

At the request of the State agency, the Department reviewed the certification for workers of the subject firm. New information shows that a worker separation has occurred involving an employee of the Baldwinsville, New York facility of Syroco, Inc. located in Houston, Texas. Mr. John Minnelli provided sales support services for the production of plastic patio furniture that is produced at the Baldwinsville, New York location of the subject firm.

Based on these findings, the Department is amending this certification to include an employee of the Baldwinsville, New York facility of Syroco, Inc., located in Houston, Texas.

The intent of the Department's certification is to include all workers of Syroco, Inc., Baldwinsville, New York who were adversely affected by increased customer imports.

The amended notice applicable to TA-W-61,864 is hereby issued as follows:

All workers of Syroco, Inc., Baldwinsville, New York (TA-W-61,864), including an employee in support of Syroco, Inc., Baldwinsville, New York located in Houston, Texas (TA-W-61,864C), who became totally or partially separated from employment on or after July 23, 2006, through July 27, 2009, are eligible to apply for adjustment assistance under Section 223 of the Trade Act of 1974, and are also eligible to apply for alternative trade adjustment assistance under Section 246 of the Trade Act of 1974.

Signed at Washington, DC this 24th day of September 2007.
Elliott S. Kushner,
Certifying Officer, Division of Trade Adjustment Assistance.

[FR Doc. E7-19180 Filed 9-27-07; 8:45 am]

BILLING CODE 4510-FN-P